DEPARTMENT OF JUSTICE

Notice of Lodging of Consent Decree Under the Clean Air Act, Resource Conservation and Recovery Act, Clean Water Act, Emergency Planning and Community Right-to-Know Act, and Comprehensive Environmental Response, Compensation and Liability Act of 1980

Notice is hereby given that on December 17, 2007, a proposed Consent Decree (“Decree”) in United States, et al. v. Georgia Gulf Chemicals and Vinyls, LLC, Civil Action No. 1:07-CV-3113, was lodged with the United States District Court for the Northern District of Georgia.

In this action the United States and the Mississippi Commission on Environmental Quality sought penalties and injunctive relief under the Clean Air Act, 42 U.S.C. 7401 et seq.; the Resource Conservation and Recovery Act, 42 U.S.C. 6901 et seq.; the Emergency Planning and Community Right-to-Know Act, 42 U.S.C. 11001 et seq.; the Comprehensive Environmental Response, Compensation and Liability Act of 1980, as amended, 42 U.S.C. 9601 et seq.; and the Clean Water Act, 33 U.S.C. 1251 et seq., as amended by the Oil Pollution Act of 1990, relating to a polyvinyl chloride facility owned or operated by Georgia Gulf Chemicals and Vinyls, LLC (“Georgia Gulf”), located in Aberdeen, Mississippi. The Decree requires Georgia Gulf to pay a civil penalty of $610,000 to be split evenly between the United States and the State of Mississippi. Georgia Gulf has also agreed to perform corrective measures, including installation of an air stripper to reduce volatile organic compounds by removing vinyl chloride from process wastewater. Georgia Gulf will also implement several standard operating procedures to ensure compliance with the Resource Conservation and Recovery Act and Clean Air Act. Further, Georgia Gulf has agreed to comply with specific Clean Water Act and Emergency Planning and Community Right-to-Know Act requirements.

The Department of Justice will receive for a period of thirty (30) days from the date of this publication comments relating to the Decree. Comments should be addressed to the Assistant Attorney General, Environment and Natural Resources Division, and either e-mailed to pubcomment.ees.enrd@usdoj.gov or mailed to P.O. Box 7611, U.S. Department of Justice, Washington, DC 20044-7611, and should refer to United States, et al. v. Georgia Gulf Chemicals and Vinyls, LLC, D.J. Ref. 90-5-2-1-08489.

The Decree may be examined at the Office of the United States Attorney, 600 Richard B. Russell Federal Bldg., 75 Spring Street, SW, Atlanta, Georgia 30303, and at U.S. EPA Region 4, 61 Forsyth Street, SW, Atlanta, GA 30303-8960. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $22.25 (25 cents per page reproduction cost) payable to the U.S. Treasury or, if by e-mail or fax, forward a check in that amount to the Consent Decree Library at the stated address.

Henry S. Friedman,
Assistant Chief, Environmental Enforcement Section, Environment and Natural Resources Division.

[FR Doc. 07-6295 Filed 1-4-08; 8:45 am]

BILLING CODE 4410-15-M